LEGAL SERVICES CORPORATION

Notice of Change of Service Areas and Request for Proposals for Calendar Year 2024 Basic Field Grant Awards

AGENCY: Legal Services Corporation.

ACTION: Notice of funding availability.

SUMMARY: The Legal Services Corporation (LSC) hereby announces a change to the available service areas for the Request for Proposals for Calendar Year 2024 Basic Field Grant Awards. Two service areas in Pennsylvania will be combined and applications will be accepted for the new, combined service area with new deadlines.

DATES: See SUPPLEMENTARY INFORMATION section below for grant application dates.

ADDRESSES: By email to lscgrants@lsc.gov or by other correspondence to Legal Services Corporation—Basic Field Grant Awards, 3333 K Street NW, Washington, DC 20007-3522.

FOR FURTHER INFORMATION CONTACT: Christine Williams, Program Manager for Basic Field Competition, at 202-295-1602 or email at williamsc@lsc.gov, or visit the LSC website at https://www.lsc.gov/grants/basic-field-grant.

SUPPLEMENTARY INFORMATION: The Legal Services Corporation (LSC) provided a Notice of Funding Availability and Request for Proposals for Calendar Year 2024 Basic Field Grant Awards on March 14, 2023. 88 FR 15740, March 14, 2023. That notice included a list of service areas for which LSC is requesting grant proposals for 2024. LSC is amending that list to remove the PA-5 service area in Pennsylvania and add the new PA-27 service area in Pennsylvania. For 2024 Basic Field Grant Awards, LSC is combining the PA-5 and PA-11 service areas to create the new PA-27 service area to provide the most economical and effective delivery of legal assistance in that region. Service area descriptions are available at https://www.lsc.gov/grants/basic-field-grant/lsc-service-areas. LSC will post all updates and changes to this notice at https://www.lsc.gov/grants/basic-field-grant. Interested parties can visit https://www.lsc.gov/grants/basic-field-grant or contact LSC by email at lscgrants@lsc.gov.

The deadline for pre-applications for PA-27 will be May 31, 2023, and the deadline for full applications for PA-27 will be July 31, 2023. For all other service areas, the deadlines are unchanged by this notice. The listing of all key dates for the LSC 2024 basic field grants process, including the deadlines for filing grant proposals, is available at https://www.lsc.gov/grants/basic-field-grant/how-apply-basic-field-grant/basic-field-grant-key-dates.

Authority: 42 U.S.C. 2996g(e).

Dated: April 14, 2023.
Mark Freedman,
Senior Associate General Counsel.

[FR Doc. 2023-08315 Filed 4-19-23; 8:45 am]

BILLING CODE 7050-01-P